DEPARTMENT OF COMMERCE

International Trade Administration

Proposed Information Collection; Comment Request; Special American Business Internship Training (SABIT) Program: Applications and Questionnaires

AGENCY: International Trade Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 17, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Tracy M. Rollins, (202) 482-0073, tracy.rollins@mail.doc.gov, fax (202) 482-2443.

SUPPLEMENTARY INFORMATION:

I. Abstract

The Special American Business Internship Training (SABIT) Programs of the Department of Commerce's International Trade Administration (ITA), are a key element in the U.S. Government's efforts to support the economic transition of Eurasia (the former Soviet Union). SABIT develops and implements one-month training programs for groups of up to 18 professionals from Eurasia. They are trained by U.S. companies in various business practices and principles. This unique private sector-U.S. Government partnership was created in order to tap the U.S. private sector's expertise in assisting Eurasia's transition to a market economy while boosting U.S.-Eurasian long-term trade.

The participant applications and feedback (exit) surveys are needed to enable SABIT to find the most qualified people for the training programs and to track the success of the program as regards to trade between the U.S. and the countries of Eurasia, as well as to improve the content and administration of the programs.

The closing date for applications and supplemental materials is based upon the starting date of the program and is published, with the application, on the program's Russian-language Web site at www.sabitprogram.org. Pursuant to section 632(a) of the Foreign Assistance Act of 1961, as amended (the “Act”), funding for the program will be provided by the Agency for International Development (AID).

SABIT is not requesting renewal of all the forms in this collection, the Insurance Form and Grant Application for U.S. Companies will be discontinued.

II. Method of Collection

Applications are sent to program candidates via facsimile or mail upon request. Applications are also posted on the SABIT Russian language Web site at http://www.sabitprogram.org.

Feedback surveys are given to participating U.S. companies and Eurasian participants at the completion of programs. End-of-Internship forms are given to individual participating U.S. companies hosting internships.

III. Data

OMB Control Number: 0625-0225.

Form Number(s): ITA-4143P-5.

Type of Review: Regular submission.

Affected Public: Individuals or households; Business or other for-profit organizations.

Estimated Number of Respondents: 2,250.

Estimated Time Per Response: Application, 3 hours; feedback form, 1 hour; and end-of-internship form, 2 hours.

Estimated Total Annual Burden Hours: 5,875.

Estimated Total Annual Cost to Public: $60,250.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 11, 2007.
Gwellnar Banks,
Management Analyst, Office of the Chief Information Officer.

[FR Doc. E7-20408 Filed 10-16-07; 8:45 am]

BILLING CODE 3510-HE-P